SMALL BUSINESS ADMINISTRATION

[License No. 02/32-0677]

GCM Grosvenor California Impact SBIC Fund, L.P.; Surrender of License of Small Business Investment Company

Pursuant to the authority granted to the United States Small Business Administration under the Small Business Investment Act of 1958, as amended, (the “Act”) under Section 309 of the Act and 13 CFR 107.1900 of the Code of Federal Regulations to function as a small business investment company under the Small Business Investment Company License No. 02/32-0677 issued to GCM Grosvenor California Impact SBIC Fund, L.P., said license is hereby declared null and void.

Bailey DeVries,
Associate Administrator, Office of Investment and Innovation, United States Small Business Administration.

[FR Doc. 2023-03187 Filed 2-14-23; 8:45 am]

BILLING CODE P